DEPARTMENT OF EDUCATION

Office of Indian Education; Overview Information; Professional Development; Notice Inviting Applications for New Discretionary Program Awards for Fiscal Year (FY) 2004

Catalog of Federal Domestic Assistance (CFDA) Number: 84.299B.

DATES:

Applications Available: March 3, 2004.

Deadline for Transmittal of Applications: April 5, 2004.

Deadline for Intergovernmental Review: June 1, 2004.

Eligible Applicants: Eligible applicants for this program are an institution of higher education, including an Indian institution of higher education; a State or local educational agency, in consortium with an institution of higher education; an Indian tribe or organization, in consortium with an institution of higher education; and a Bureau-funded school.

An application from a consortium of eligible entities must meet the requirements of 34 CFR 75.127 through 75.129. The consortium agreement, signed by all parties, must be submitted with the application in order to be considered as a consortium application. Letters of support do not meet the consortium requirements.

In order to be considered an eligible entity, applicants, including institutions of higher education, must be eligible to provide the level and type of degree proposed in the application or must apply in consortium with an institution of higher education that is eligible to grant the target degree.

Applicants that apply as an “Indian organization” must demonstrate in the application how they meet all criteria of this term as defined in 34 CFR 263.3 in order to be considered an eligible Indian organization.

We will reject any application that does not meet these requirements.

Estimated Available Funds: $6,791,630.

Estimated Range of Awards: $300,000 to $500,000.

Estimated Average Size of Awards: $424,476.

Maximum Award: We will reject any application that proposes a budget exceeding $500,000 for a single budget period of 12 months during the first 24 months of the project. The last 12-month budget period of a 36-month award will be limited to induction services only, at a cost not to exceed $75,000. The Deputy Under Secretary may change the maximum amount through a notice published in the Federal Register.

Estimated Number of Awards: 16.

Note: The Department is not bound by any estimates in this notice.

Project Period: 36 months.

Full Text of Announcement

I. Funding Opportunity Description

Purpose of Program: The purposes of the Professional Development program are to: (1) Increase the number of qualified Indian individuals in professions that serve Indian people; (2) provide training to qualified Indian individuals to become teachers, administrators, teacher aides, social workers, and ancillary educational personnel; and (3) improve the skills of qualified Indian individuals who serve in the education field. Activities may include, but are not limited to, continuing programs, symposia, workshops, conferences, and direct financial support.

Priorities: In accordance with 34 CFR 75.105(b)(2)(ii), these absolute priorities are from the regulations for this program (34 CFR 263.5(c)(1) and (2)). These priorities are designed to meet two primary goals of the No Child Left Behind Act of 2001, Pub. L. 107-110.

Absolute Priorities: For FY 2004 these priorities are absolute priorities. Under 34 CFR 75.105(c)(3) we consider only applications that meet one or both of these priorities.

These priorities are:

Pre-Service Training for Teachers

A project that provides support and training to Indian individuals to complete a pre-service education program that enables these individuals to meet the requirements for full State certification or licensure as a teacher through—

(1)(i) Training that leads to a bachelor's degree in education before the end of the award period;

(ii) For States allowing a degree in a specific subject area, training that leads to a bachelor's degree in the subject area as long as the training meets the requirements for full State teacher certification or licensure; or

(iii) Training in a current or new specialized teaching assignment that requires at least a bachelor's degree and in which a documented teacher shortage exists; and

(2) One year induction services after graduation, certification, or licensure provided during the award period to graduates of the pre-service program while they are completing their first year of work in schools with significant Indian student populations.

Note: In working with various institutions of higher education and State certification/licensure requirements, we found that states requiring a degree in a specific subject area (e.g., specialty areas or teaching at the secondary level) generally require a master's degree or fifth-year requirement before an individual can be certified or licensed as a teacher. These students would be eligible to participate as long as their training meets the requirements for full State certification or licensure as a teacher.

Pre-Service Administrator Training

A project that provides—

(1) Support and training to Indian individuals to complete a master's degree in education administration that is provided before the end of the award period and that allows participants to meet the requirements for State certification or licensure as an education administrator; and

(2) One year of induction services during the award period to participants after graduation, certification or licensure, while they are completing their first year of work as administrators in schools with significant Indian student populations.

Competitive Preference Priorities: Within each of the absolute priorities, we give competitive preference to applications that address the following priorities. In accordance with 34 CFR 75.105(b)(2)(ii), these priorities are from the regulations for this program (34 CFR 263.5(a) and (b)). These priorities are:

Competitive Preference Priority One

We award five points to an application submitted by an Indian tribe, Indian organization, or Indian institution of higher education that is eligible to participate in the Professional Development program. A consortium application of eligible entities that meets the requirements of 34 CFR 75.127 through 75.129 of EDGAR and includes an Indian tribe, Indian organization or Indian institution of higher education will be considered eligible to receive the five (5) priority points.

Competitive Preference Priority Two

We award five points to an application submitted by a consortium of eligible applicants that includes a tribal college or university and that designates that tribal college or university as the fiscal agent for the application. The consortium application of eligible entities must meet the requirements of 34 CFR 75.127 through 75.129 of EDGAR to be considered eligible to receive the five (5) priority points. These points are in addition to the five (5) competitive preference points we may award under Competitive Preference One.

Note: The consortium agreement, signed by all parties, must be submitted with the application in order to be considered a consortium application. Letters of support do not meet the consortium requirements. We will reject any application that does not meet these requirements.

Note: Tribal colleges and universities are those institutions cited in section 532 of the Equity in Educational Land-Grant Status Act of 1994 (7 U.S.C. 301 note), any other institution that qualifies for funding under the Tribally Controlled College or University Assistance Act of 1978 (25 U.S.C. 1801 et seq.), or Dine College (formerly Navajo Community College), authorized in the Navajo Community College Act (25 U.S.C. 640a et seq.).

Program Authority: 20 U.S.C. 7442.

Applicable Regulations: (a) The Education Department General Administrative Regulations (EDGAR) in 34 CFR parts 74, 75, 77, 79, 80, 81, 82, 84, 85, 86, 97, 98 and 99; and (b) 34 CFR part 263.

Note: The regulations in 34 CFR part 79 apply to all applicants except federally recognized Indian tribes.

Note: The regulations in 34 CFR part 86 apply to institutions of higher education only.

II. Award Information

Type of Award: Discretionary grants.

Estimated Available Funds: $6,791,630.

Estimated Range of Awards: $300,000 to $500,000.

Estimated Average Size of Awards: $424,476.

Maximum Award: We will reject any application that proposes a budget exceeding $500,000 for a single budget period of 12 months during the first 24 months of the project. The last 12-month budget period of a 36-month award will be limited to induction services only, at a cost not to exceed $75,000. The Deputy Under Secretary may change the maximum amount through a notice published in the Federal Register.

Estimated Number of Awards: 16.

Note: The Department is not bound by any estimates in this notice.

Project Period: 36 months.

III. Eligibility Information

1. Eligible Applicants: Eligible applicants for this program are an institution of higher education, including an Indian institution of higher education; a State or local educational agency, in consortium with an institution of higher education; an Indian tribe or organization, in consortium with an institution of higher education; and a Bureau-funded school.

An application from a consortium of eligible entities must meet the requirements of 34 CFR 75.127 through 75.129. The consortium agreement, signed by all parties, must be submitted with the application in order to be considered as a consortium application. Letters of support do not meet the consortium requirements.

In order to be considered an eligible entity, applicants, including institutions of higher education, must be eligible to offer the level and type of degree proposed in the application or must apply in consortium with an institution of higher education that is eligible to grant the target degree.

Applicants that apply as an “Indian organization” must demonstrate in the application how they meet all criteria of this term as defined in 34 CFR 263.3 in order to be considered an eligible Indian organization.

We will reject any application that does not meet these requirements.

2. Cost Sharing or Matching: This program does not involve cost sharing or matching.

3. Other:

(a) Indian institution of higher education. The term “Indian institution of higher education” means an accredited college or university within the United States cited in section 532 of the Equity in Educational Land-Grant Status Act of 1994 (7 U.S.C. 301 note), any other institution that qualifies for funding under the Tribally Controlled College or University Assistance Act of 1978 (25 U.S.C. 1801 et seq.), and Dine College (formerly Navajo Community College), authorized in the Navajo Community College Act (25 U.S.C. 640a et seq.).

(b) Budget Requirement. Projects funded under this competition must budget for a two-day Project Directors' meeting in Washington, DC during each year of the project period.

IV. Application and Submission Information

1. Address to Request Application Package: Education Publications Center (ED Pubs), P.O. Box 1398, Jessup, MD 20794-1398. Telephone (toll free): 1-877-433-7827. FAX (301) 470-1244. If you use a telecommunications device for the deaf (TDD), you may call (toll free): 1-877-576-7734.

You may also contact ED Pubs at its Web site: http://www.ed.gov/pubs/edpubs.html or you may contact ED Pubs at its e-mail address: edpubs@inet.ed.gov.

If you request an application from ED Pubs, be sure to identify this competition as follows: CFDA number 84.299B.

Individuals with disabilities may obtain this document in an alternative format (e.g., Braille, large print, audiotape, or computer diskette) by contacting the program contact person listed under For Further Information Contact elsewhere in this notice.

2. Content and Form of Application Submission: Requirements concerning the content of an application, together with the forms you must submit, are in the application package for this program.

Page Limit: The application narrative is where you, the applicant, address the selection criteria that are used by reviewers in evaluating the application. You must limit the narrative to the equivalent of no more than 50 double-spaced pages, using the following standards:

• A “page” is 8.5″ × 11″, on one side only, with 1″ margins at the top, bottom, and both sides.

• Double space (no more than three lines per vertical inch) all text in the application narrative, including titles, headings, footnotes, quotations, references, and captions, as well as all text in charts, tables, figures, and graphs.

• Use a font that is either 12-point or larger or no smaller than 10 pitch (characters per inch).

The page limit does not apply to Part I, the cover sheet; Part II, the budget section, including the narrative budget justification; Part IV, the assurances and certifications; or the one-page abstract, the resumes, the bibliography, or the letters of support. However, you must include all of the application narrative in Part III.

Our reviewers will not read any pages of your application that—

• Exceed the page limit if you apply these standards; or

• Exceed the equivalent of the page limit if you apply other standards.

3. Submission Dates and Times:

Applications Available: March 3, 2004.

Deadline for Transmittal of Applications: April 5, 2004. The dates and times for the transmittal of applications by mail or by hand (including a courier service or commercial carrier) are in the application package for this program. The application package also specifies the hours of operation of the e-Application Web site.

We do not consider an application that does not comply with the deadline requirements.

Deadline for Intergovernmental Review: June 1, 2004.

4. Deadline for Intergovernmental Review: This program is subject to Executive Order 12372 and the regulations in 34 CFR part 79. Information about Intergovernmental Review of Federal Programs under Executive Order 12372 is in the application package for this program.

5. Funding Restrictions: We will reject any application that proposes a budget exceeding $500,000 for a single budget period of 12 months during the first 24 months of the project. The last 12-month budget period of a 36-month award will be limited to induction services only, at a cost not to exceed $75,000.

Stipends may be paid only to full-time students. For the payment of stipends to project participants being trained, the Secretary expects to set the stipend maximum at $1,775 per month for full-time students and provide for a $275 allowance per month per dependent during an academic term. The terms “stipend,” “full-time student,” and “dependent allowance” are defined in 34 CFR 263.3.

We reference additional regulations outlining funding restrictions in the Applicable Regulations section of this notice.

6. Other Submission Requirements: Instructions and requirements for the transmittal of applications by mail or by hand (including a courier service or commercial carrier) are in the application package for this program.

Note: Some of the procedures in these instructions for transmitting applications differ from those in the Education Department General Administrative Regulations (EDGAR) (34 CFR 75.102). Under the Administrative Procedure Act (5 U.S.C. 553) the Department generally offers interested parties the opportunity to comment on proposed regulations. However, these amendments make procedural changes only and do not establish new substantive policy. Therefore, under 5 U.S.C. 553(b)(A), the Secretary has determined that proposed rulemaking is not required.

Pilot Project for Electronic Submission of Applications: We are continuing to expand our pilot project for electronic submission of applications to include additional formula grant programs and additional discretionary grant competitions. The Professional Development program—CFDA Number 84.299B—is one of the programs included in the pilot project. If you are an applicant under the Professional Development program, you may submit your application to us in either electronic or paper format.

The pilot project involves the use of the Electronic Grant Application System (e-Application). If you use e-Application, you will be entering data online while completing your application. You may not e-mail an electronic copy of a grant application to us. If you participate in this voluntary pilot project by submitting an application electronically, the data you enter online will be saved into a database. We request your participation in e-Application. We shall continue to evaluate its success and solicit suggestions for its improvement.

If you participate in e-APPLICATION, please note the following:

• Your participation is voluntary.

• When you enter the e-Application system, you will find information about its hours of operation. We strongly recommend that you not wait until the application deadline date to initiate an e-Application package.

• You will not receive additional point value because you submit a grant application in electronic format, nor will we penalize you if you submit an application in paper format.

• You may submit all documents electronically, including the Application for Federal Education Assistance (ED 424), Budget Information—Non-Construction Programs (ED 524), and all necessary assurances and certifications.

• Your e-Application must comply with any page limit requirements described in this notice.

• After you electronically submit your application, you will receive an automatic acknowledgement, which will include a PR/Award number (an identifying number unique to your application).

• Within three working days after submitting your electronic application, fax a signed copy of the Application for Federal Education Assistance (ED 424) to the Application Control Center after following these steps:

1. Print ED 424 from e-Application.

2. The institution's Authorizing Representative must sign this form.

3. Place the PR/Award number in the upper right hand corner of the hard copy signature page of the ED 424.

4. Fax the signed ED 424 to the Application Control Center at (202) 260-1349.

• We may request that you give us original signatures on all other forms at a later date.

Application Deadline Date Extension in Case of System Unavailability: If you elect to participate in the e-Application pilot for the Professional Development program and you are prevented from submitting your application on the application deadline date because the e-Application system is unavailable, we will grant you an extension of one business day in order to transmit your application electronically, by mail, or by hand delivery. We will grant this extension if—

1. You are a registered user of e-Application, and have initiated an e-Application for this competition; and

2. (a) The e-Application system is unavailable for 60 minutes or more between the hours of 8:30 a.m. and 3:30 p.m., Washington, DC time, on the application deadline date; or

(b) The e-Application system is unavailable for any period of time during the last hour of operation (that is, for any period of time between 3:30 p.m. and 4:30 p.m., Washington, DC time) on the application deadline date.

We must acknowledge and confirm these periods of unavailability before granting you an extension. To request this extension or to confirm our acknowledgment of any system unavailability, you may contact either (1) the person listed elsewhere in this notice under FOR FURTHER INFORMATION CONTACT (see VII. Agency Contact) or (2) the e-GRANTS help desk at 1-888-336-8930.

You may access the electronic grant application for the Professional Development program at: http://e-grants.ed.gov.

V. Application Review Information

Selection Criteria: The selection criteria for this program are in the application package and 34 CFR 263.6.

VI. Award Administration Information

1. Award Notices: If your application is successful, we notify your U.S. Representative and U.S. Senators and send you a Grant Award Notification (GAN). We may also notify you informally.

If your application is not evaluated or not selected for funding, we will notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under this grant.

3. Reporting: At the end of your project period, you must submit a final performance report, including financial information, as directed by the Secretary. If you receive a multi-year award, you must submit an annual performance report that provides the most current performance and financial expenditure information as specified by the Secretary in 34 CFR 75.118.

4. Performance Measures: The Secretary has established the following key performance measures for assessing the effectiveness of the Professional Development program: To increase the percentages of the teacher and principal workforces serving American Indian and Alaska Native students who are themselves American Indian and Alaska Native. The program target is to increase the percentage of American Indian and Alaska Native principals and teachers in public schools with 25 percent or more American Indian and Alaska Native students.

Under the selection criteria “Quality of project services” and “Quality of the project evaluation,” we will consider the extent to which the applicant demonstrates a strong capacity to provide reliable data on these indicators.

All grantees will be expected to submit, as part of their performance report, information documenting their progress with regard to these performance measures.

VII. Agency Contact

For Further Information Contact: Victoria Vasques, Office of Indian Education, U.S. Department of Education, 400 Maryland Avenue, SW., room 3W205, Washington, DC 20202-6335. Telephone: (202) 260-3774 or by e-mail: oiegrant@ed.gov.

If you use a telecommunications device for the deaf (TDD), you may call the Federal Information Relay Service (FIRS) at 1-800-877-8339.

Individuals with disabilities may obtain this document in an alternative format (e.g., Braille, large print, audiotape, or computer diskette) on request to the contact person listed in this section.

VII. Other Information

Electronic Access to This Document: You may view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Dated: February 25, 2004.
Victoria Vasques,
Deputy Under Secretary for Indian Education.

[FR Doc. 04-4554 Filed 3-01-04; 8:45 am]

BILLING CODE 4000-01-P